DEPARTMENT OF DEFENSE

Department of the Army

Army Science Board Partially Closed Meeting Notice

AGENCY: Department of the Army, DoD.

ACTION: Notice of a partially closed meeting.

SUMMARY: Pursuant to the Federal Advisory Committee Act of 1972, the Government in the Sunshine Act of 1976 and title 41 of the Code of Federal Regulations, the Department of the Army announces a meeting of the Army Science Board.

FOR FURTHER INFORMATION CONTACT: Army Science Board, Designated Federal Officer, 2530 Crystal Drive, Suite 7098, Arlington, VA 22202; LTC Stephen K. Barker, the committee's Designated Federal Officer (DFO), at (703) 545-8652 or email: stephen.k.barker.mil@mail.mil, or Mr. Paul Woodward at (703) 695-8344 or email: paul.j.woodward2.civ@mail.mil.

SUPPLEMENTARY INFORMATION: Pursuant to the Federal Advisory Committee Act of 1972 (5 U.S.C., Appendix, as amended), the Government in the Sunshine Act of 1976 (U.S.C. 552b, as amended) and 41 Code of Federal Regulations (CFR) § 102-3.140 through 160, the Department of the Army announces the following committee meeting:

Name of Committee: Army Science Board (ASB) Fall Voting Session.

Date: Tuesday, October 6, 2015.

Time: 0800-1100.

Locations:

Open portion: Capital Conference Center, One Virginia Square, 3601 Wilson Boulevard, 6th Floor, Arlington, Virginia 22201, from 0800-0900.

Closed portion: Capital Conference Center, One Virginia Square, 3601 Wilson Boulevard, 6th Floor, Arlington, Virginia 22201, from 0900-1100.

Purpose of Meeting: The purpose of the meeting is for ASB members to review, deliberate, and vote on the findings and recommendations presented for the Board's two remaining Fiscal Year 2015 (FY15) studies.

Agenda: The board will present findings and recommendations for deliberation and vote on the following two FY15 studies:

Human Interaction and Behavioral Enhancement. This study is partially classified and will be presented in the open and closed portions of the meeting. The purpose of this study is to identify and assess methods and techniques to understand, interact, and influence human behavior in support of Army missions.

Force 2025 and Beyond. This study is classified and will be presented in the closed portion of the meeting. This study will provide findings and recommendations for operational concepts and advanced technologies along with the associated force designs for improving and maintaining readiness, designing and conducting training, and aligning the required logistics investments.

Filing Written Statement: Pursuant to 41 CFR 102-3.140d, the Committee is not obligated to allow the public to speak; however, interested persons may submit a written statement for consideration by the Board. Individuals submitting a written statement must submit their statement to the DFO at the address listed above. Written statements not received at least 10 calendar days prior to the meeting may not be considered by the Board prior to its scheduled meeting.

The DFO will review all timely submissions with the Board's executive committee and ensure they are provided to the specific study members as necessary before, during, or after the meeting. After reviewing written comments, the study chairs and the DFO may choose to invite the submitter of the comments to orally present their issue during a future open meeting.

The DFO, in consultation with the executive committee, may allot a specific amount of time for members of the public to present their issues for discussion.

Public's Accessibility to the Meeting: Pursuant to 5 U.S.C. 552b and 41 CFR 102-3.140 through 3.165, and the availability of space, the open portion of this meeting is open to the public. Seating is on a first-come basis. The Antlers Hilton is fully handicapped accessible. For additional information about public access procedures, contact LTC Stephen Barker at the telephone number or email address listed in the FOR FURTHER INFORMATION CONTACT section.

Brenda S. Bowen,
Army Federal Register Liaison Officer.

[FR Doc. 2015-24089 Filed 9-21-15; 8:45 am]

BILLING CODE 3710-08-P